Title 3—

The President

Proclamation 7591 of September 13, 2002

National Hispanic Heritage Month, 2002

By the President of the United States of America

A Proclamation

America's cultural diversity has always been a great strength of our Nation. The Hispanic-American community has a long and important history of commitment to our Nation's core values, and the contributions of this community have helped make our country great. During National Hispanic Heritage Month, we celebrate the many achievements of Hispanic Americans and recognize their contributions to our country.

In 1968, the Congress authorized President Lyndon Johnson to proclaim National Hispanic Heritage Week, and this observance was expanded in 1988 to a month-long celebration to honor our Nation's Hispanic heritage. During this month, America celebrates the traditions, ancestry, and unique experiences of those who trace their roots to Spain, Mexico, the countries of Central and South America, and the Caribbean.

Throughout our history, Hispanic Americans have enriched the American way of life, and we recognize the millions of Hispanic Americans whose love of family, hard work, and community have helped unite us as a people and sustain us as a Nation. As entrepreneurs and public servants, scholars and artists, Hispanic Americans have provided wisdom, energy, and leadership to our communities, and to our country. During the Civil War, David Glasgow Farragut, son of Revolutionary War hero Jorge Farragut of Spain, won fame as a Union hero by blocking Southern ports. The Congress rewarded his valor by naming him the Navy's first four-star Admiral. Today, a statue honoring his many accomplishments stands in Farragut Square, Washington, D.C. Nearly a century ago, Hispanic actresses Myrtle Gonzalez and Beatriz Michelena were popular stars in silent films. Many others followed as the industry expanded in the 20th Century, including Rita Hayworth, Fernando Lamas, and Anthony Quinn. In 1959, Dr. Severo Ochoa was a co-recipient of the Nobel Prize in Physiology or Medicine for the discovery of RNA (ribonucleic acid), one of the chemical building blocks of life. In the world of sports, athletes such as Roberto Clemente earned the admiration of countless Americans for his athletic skill and commitment to humanitarian efforts.

We also remember those Hispanics who established the vibrant and diverse American cities of Los Angeles, San Francisco, Santa Fe, San Antonio, and many others. We remember those who were instrumental in exploring and mapping our great hemisphere and we honor those proud Hispanic-American patriots who fought and died for our country in every war and conflict since our founding.

During National Hispanic Heritage Month, I join with all Americans in celebrating this rich and diverse culture and encourage all citizens to recognize the important role of Hispanics in creating and building this great Nation.

To honor the achievements of Hispanic Americans, the Congress, by Public Law 100-402, has authorized and requested the President to issue annually a proclamation designating September 15 through October 15, as “National Hispanic Heritage Month.”

NOW, THEREFORE, I, GEORGE W. BUSH, President of the United States of America, do hereby proclaim September 15 through October 15, 2002, as National Hispanic Heritage Month. I call upon public officials, educators, librarians, and all the people of the United States to observe this month with appropriate ceremonies, activities, and programs.

IN WITNESS WHEREOF, I have hereunto set my hand this thirteenth day of September, in the year of our Lord two thousand two, and of the Independence of the United States of America the two hundred and twenty-seventh.

B

[FR Doc. 02-23997

Filed 9-18-02; 8:45 am]

Billing code 3195-01-P